DEPARTMENT OF COMMERCE

National Oceanic and Atmospheric Administration

50 CFR Part 600

[I.D. 021403B]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: The Administrator, Northeast Region, NMFS (Regional Administrator) has made a preliminary determination that the subject EFP application contains all the required information and warrants further consideration. The Regional Administrator has also made a preliminary determination that the activities authorized under the EFP are consistent with the goals and objectives of the Summer Flounder, Scup, and Black Sea Bass Fishery Management Plan (FMP) and the Atlantic Mackerel, Squid, and Butterfish FMP. However, further review and consultation may be necessary before a final determination is made to issue an EFP. Therefore, NMFS announces that the Regional Administrator proposes to issue EFPs that would allow up to 10 vessels to test the effectiveness of a 5.5-inch (13.97-cm) square mesh extension escapement panel for reducing bycatch of scup and retain Loligo squid inside the Gear Restricted Areas (GRAs), and up to 15 additional vessels to conduct fishing operations otherwise restricted by the regulations governing the fisheries of the Northeastern United States. In order to fund the survey, the 15 additional vessels would be fishing for specific amounts of named species under the Research Set-Aside (RSA) Program. Regulations under the Magnuson-Stevens Fishery Conservation and Management Act require publication of this notification to provide interested parties the opportunity to comment on applications for proposed EFPs.

DATES: Comments on this document must be received on or before 5 p.m. EST March 17, 2003.

ADDRESSES: Written comments should be sent to Patricia A. Kurkul, Regional Administrator, NMFS, Northeast Regional Office, 1 Blackburn Drive, Gloucester, MA 01930. Mark the outside of the envelope “Comments on NFI Squid Scup GRA EFP Proposal.” Comments may also be sent via facsimile (fax) to (978) 281-9135.

FOR FURTHER INFORMATION CONTACT: Paul Perra, Fishery Policy Analyst, 978-281-9153.

SUPPLEMENTARY INFORMATION: The application process for an EFP was completed by the National Fisheries Institute (NFI) on January 28, 2002. To conduct the experiment, NFI, in cooperation with Rutgers University and Manoment Center for Conservation Sciences, requested EFPs for up to 10 vessels to test the effectiveness of a 5.5-inch (13.97-cm) square mesh extension escapement panel for reducing bycatch of scup and retaining Loligo squid inside the GRAs (mesh study), and for up to 15 additional vessels to harvest RSA allocations. Coordinates of the GRAs are listed at 50 CFR 648.122(a) and (b). The 10 vessels participating in the mesh study and up to 15 additional vessels would make additional compensation fishing tips, during closed seasons, to land up to the total RSA quota allocation of 140,543 lb (63,749 kg) of Loligo squid, 23,325 lb (10,580 kg) of scup, and 21,338 lb (9,679 kg) of black sea bass. However, no fish caught during these compensation fishing trips smaller than the legal minimum size would be sold, traded, bartered, or processed for sale. Landings from such trips would be sold to generate funds that would defray the costs associated with the research project.

The research project would be carried out by the research vessels conducting discard monitoring and net testing. Discard monitoring will rely on vessel reports to identify areas of high scup discarding. Once areas of high scup discarding are identified, the research vessels would work in pairs to make coordinated trips of about 5 days duration. Each research vessel, working in close proximity to the paired research vessel, would conduct about 10 research tows for a total of about 20 research tows during a coordinated trip. One of the vessels would use unmodified gear (1.875-inch (4.76-cm) standard codend and unmodified extension) and the other would use modified gear (1.875-inch (4.76-cm)) standard codend with a square mesh panel in the extension or other configuration). Nets will be towed using an ABBA pattern of deployment. Approximately 80 combined two-hour research tows will be made to carry out the mesh study. Most tows would occur in March, but some tows may take place in November and December. The catch will be sorted by species and weighed. Target species in order of priority will be scup, Loligo squid, summer flounder, black sea bass, and whiting. Data will be statistically analyzed and a report prepared. Generally, where sampling permits, at least 100 lengths of discards and landings will be collected for each target species.

To conduct the mesh study, the research vessels would be granted exemptions to black sea bass quarterly quota closures at § 648.141; scup trimester quota closures at § 648.121(a); scup time and area restrictions at § 648.122(a) and (b); scup trawl gear restrictions at § 648.123; and Loligo squid trip and quarterly closures at § 648.22. In addition, in order to collect individual size measurements and other data, the EFP for the ten vessels identified as research vessels to conduct the mesh study would grant additional exemptions from the following regulations: Minimum sizes for scup at § 648.124(a), summer flounder at § 648.103(a), (b), and (c), and black sea bass at § 648.143. The 1 to 15 vessels that would be used to harvest the RSA would be exempt from the following: Black sea bass trip limits at § 648.140(b)(2); black sea bass quarterly quota closures at § 648.141; scup trimester quota closures at § 648.121(a); and Loligo squid possession limit, and quarterly closures at § 648.22(a) and (c).

Any landings that would occur from research or compensation fishing would be reported in the Vessel Trip Report, as required, because the participating vessels possess a commercial scup, Loligo squid, summer flounder, or black sea bass moratorium permit. All fish would be landed in compliance with applicable state landing laws.

Based on the results of the EFP, this action may lead to future rulemaking.

Authority: 16 U.S.C. 1801 et seq.

Dated: February 21, 2003.
Richard W. Surdi,
Acting Director, Office of Sustainable Fisheries National Marine Fisheries Service.

[FR Doc. 03-4680 Filed 2-27-03; 8:45 am]

BILLING CODE 3510-22-S